COMMISSION ON CIVIL RIGHTS

Sunshine Act Meeting Notice

AGENCY: United States Commission on Civil Rights.

ACTION: Notice of Commission public business meeting.

DATES: Friday, June 7, 2024, 10:00 a.m. ET.

ADDRESSES: Meeting to take place virtually and is open to the public via livestream on the Commission's YouTube page: https://www.youtube.com/user/USCCR/videos.

FOR FURTHER INFORMATION CONTACT: Angelia Rorison: 202-376-8371; publicaffairs@usccr.gov.

SUPPLEMENTARY INFORMATION: In accordance with the Government in Sunshine Act (5 U.S.C. 552b), the Commission on Civil Rights is holding a meeting to discuss the Commission's business for the month. This business meeting is open to the public. Computer assisted real-time transcription (CART) will be provided. The web link to access CART (in English) on Friday, June 7, 2024, is https://www.streamtext.net/player?event=USCCR. Please note that CART is text-only translation that occurs in real time during the meeting and is not an exact transcript.

Meeting Agenda

I. Approval of Agenda

II. Business Meeting

A. Discussion and Vote on 2024 USCCR Business Meeting Calendar

B. Presentations by State Advisory Committee Chairs on Released Reports and Memorandums

C. Discussion and Vote on State Advisory Committee Appointments

D. Discussion and Vote 2024 Topic for USCCR Statutory Enforcement Report

E. Management and Operations

• Staff Director's Report

III. Adjourn Meeting

Dated: May 30, 2024.
Angelia Rorison,
USCCR Media and Communications Director.

[FR Doc. 2024-12215 Filed 5-30-24; 4:15 pm]

BILLING CODE 6335-01-P